ENVIRONMENTAL PROTECTION AGENCY

40 CFR Part 63

[AD-FRL-7204-5]

RIN 2060-AJ34

National Emission Standards for Hazardous Air Pollutants for Pesticide Active Ingredient Production

AGENCY: Environmental Protection Agency (EPA).

ACTION: Withdrawal of direct final rule.

SUMMARY: Because EPA received adverse comment, we are withdrawing the direct final rule published on March 22, 2001 (67 FR 13508) to extend the compliance date of the national emission standards for hazardous air pollutants (NESHAP) for Pesticide Active Ingredient (PAI) Production. Under the promulgated rule, the compliance date is August 22, 2002 (67 FR 13514, March 22, 2002). The direct final rule would have extended the compliance date to December 23, 2003. We stated in that direct final rule that if we received adverse comment by April 22, 2002, we would publish a timely withdrawal in the Federal Register. We received adverse comment on that direct final rule. We will address that comment in a subsequent final action based on the parallel proposal also published on March 22, 2002 (67 FR 13504). As stated in the parallel proposal, we will not institute a second comment period on this action.

DATES: As of May 1, 2002, EPA withdraws the direct final rule published at 67 FR 13508 on March 22, 2002.

ADDRESSES: Docket No. A-95-20 contains supporting information used in developing the PAI Production NESHAP. The docket is located at the U.S. EPA, 401 M Street, SW., Washington, DC 20460 in Room M-1500, Waterside Mall (ground floor), and may be inspected from 8:30 a.m. to 5:30 p.m., Monday through Friday, excluding legal holidays.

FOR FURTHER INFORMATION CONTACT: Mr. Randy McDonald, Organic Chemicals Group, Emission Standards Division (Mail Code C504-04), U.S. EPA, Research Triangle Park, North Carolina 27711, telephone number (919) 541-5402, electronic mail address mcdonald.randy@epa.gov.

SUPPLEMENTARY INFORMATION:

Why Are We Withdrawing the Direct Final Rule?

The direct final rule would have extended the compliance date for existing sources to December 23, 2003. We believe this extension was reasonable to allow sources time to assess the compliance impacts of the proposed Settlement Agreement between EPA and the American Crop Protection Association and BASF Corporation and the agreed-upon rule amendments that were proposed on April 10, 2002 (67 FR 17492). We stated in the direct final rule that if adverse comments were received by April 22, 2002, we would publish a timely withdrawal of the direct final rule, which would have had an effective date of May 21, 2002. We received an adverse comment and, therefore, are withdrawing the direct final rule. We will address this comment in the subsequent final action on the parallel proposal.

Dated: April 25, 2002.
Robert Brenner,
Acting Assistant Administrator, Office of Air and Radiation.

[FR Doc. 02-10731 Filed 4-30-02; 8:45 am]

BILLING CODE 6560-50-P